DEPARTMENT OF THE TREASURY

Submission for OMB Review; Comment Request

February 28, 2007.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before April 6, 2007 to be assured of consideration.

Treasury Inspector General for Tax Administration (TIGTA)

OMB Number: 1591-New.

Type of Review: Regular.

Title: Taxpayer Delinquency Investigation (TDI) Confirmation Letter.

Description: The Treasury Inspector General for Tax Administration (TIGTA), Office of Audit is performing a confirmation program for delinquent return accounts to see if the taxpayer agrees that tax return(s) have not yet been filed. TIGTA will use the information collected to determine the accuracy of Internal Revenue Service records.

Respondents: Individuals or Households.

Estimated Total Burden Hours: 25 hours.

OMB Number: 1591-New.

Type of Review: Regular.

Title: Taxpayer Delinquent Account (TDA) Confirmation Letter.

Description: The Treasury Inspector General for Tax Administration (TIGTA), Office of Audit is performing a confirmation program of balance due accounts owed the Internal Revenue Service (IRS) to see if the taxpayer agrees with balance due owed. TIGTA will use the information collected to determine the accuracy of IRS records.

Respondents: Individuals or Households.

Estimated Total Burden Hours: 25 hours.

Clearance Officer: Joseph Ananka, (202) 622-5964, Treasury Inspector General for Tax Administration, 1125 15th Street, NW., Suite 700A, Washington, DC 20005.

OMB Reviewer: Alexander T. Hunt, (202) 395-7316, Office of Management and Budget, Room 10235, New Executive Office Building, Washington, DC 20503.

Michael A. Robinson,
Treasury PRA Clearance Officer.

[FR Doc. E7-4082 Filed 3-6-07; 8:45 am]

BILLING CODE 4810-39-P